DEPARTMENT OF HEALTH AND HUMAN SERVICES

National Institutes of Health

Proposed Collection; Comment Request; Application for the Pharmacology Research Associate Program

SUMMARY: In compliance with the requirement of Section 3506(c)(2)(A) of the Paperwork Reduction Act of 1995, for opportunity for public comment on proposed dtaa collection projects, the National Institute of General Medical Sciences (NIGMS), the National Institutes of Health (NIH) will publish periodic summaries of proposed projects to be submitted to the Office of Management and Budget (OMB) for review and approval.

Proposed Collection: Title: Application for the Pharmacology Research Associate Program. Type of Information Collection Request: Extension of a currently approved collection, OMB No. 0925-0378, expiration date June 30, 2004. Form Numbers: NIH 2721-1, NIH 2721-2. Need and Use of Information Collection: The Pharmacology Research Associate (PRAT) Program will use the applicant and referee information to award opportunities for training and experience in laboratory or clinical investigation to individuals with a Ph.D. degree in pharmacology or a related science, M.D., or other professional degree through appointments as PRAT Fellows at the National Institutes of Health or the Food and Drug Administration. The goal of the program is to develop leaders in pharmacological research for key positions in academic, industrial, and Federal reserach laboratories. Frequency of Response: Once a year. Affected Public: Individuals or households; businesses or other for-profit. Type of Respondents: Applicants and Referees.

The annual reporting burden is as follows:

Type and number of respondents | Estimated number of responses per respondent | Estimated total responses | Average burden hours per responses | Estiamted total annual burden hours requested
Applicants: 50 | 1 | 50 | 2.00 | 100
Referees: 150 | 1 | 150 | 0.167 | 25

Total Number of Respondents: 200.

Total Number of Responses: 200.

Total Hours: 125.

The annualized cost to respondents is estimated at:

Applicants: $5,500.00.

Referees: $1,250.00.

There are no capital costs, operating costs, and/or maintenance costs to report.

Request for Comments: Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Ms. Sally Lee; NIGMS, NIH, Natcher Building, Room 2AN-18H, 45 Center Drive, MSC 6200, Bethesda, MD 20892-6200, or call non-toll-free number (301) 594-2755 or e-mail your request, including your address to: LeeS@nigms.nih.gov.

Comments Due Date: Comments regarding this information collection are best assured of having their full effect if received within 60-days of the date of this publication.

Dated: February 4, 2004.
Martha Pine,
Associate Director for Administration and Operations, National Institute of General Medical Sciences, National Institutes of Health.

[FR Doc. 04-3163 Filed 2-12-04; 8:45 am]

BILLING CODE 4140-01-M